DEPARTMENT OF AGRICULTURE

Forest Service

Deadwood Ecosystem Analysis '96, Boise National Forest, Boise and Valley Counties, ID

AGENCY: Forest Service, USDA.

ACTION: Withdrawal of notice of intent to prepare Environmental Impact Statement.

SUMMARY: The Deadwood Ecosystem Analysis '96 project NOI, which was published in the Federal Register on August 9, 1996 (Volume 61, Number 155; pp. 41563-41565) is hereby withdrawn.

DATES: This notice is effective July 21, 2000.

ADDRESSES: For more information, contact Randall Hayman, Boise National Forest, 1249 South Vinnell Way, Suite 200, Boise, ID 83709; 208-373-4517.

Dated: July 10, 2000.
David D. Rittenhouse,
Forest Supervisor.

[FR Doc. 00-18452 Filed 7-20-00; 8:45 am]

BILLING CODE 3410-11-M